DEPARTMENT OF ENERGY

Federal Energy Regulatory Commission

[Docket Nos. RM16-17-000 RM16-17-001]

Data Collection for Analytics and Surveillance and Market-Based Rate Purposes; Notice of Technical Workshop

Take notice that Federal Energy Regulatory Commission (Commission) staff will convene a technical workshop to discuss the functionality and features of the relational database through which the Commission will begin collecting certain market-based rate (MBR) information in accordance with Order No. 860 (MBR Database).¹ This workshop provides a forum for dialogue between Commission staff and interested entities to discuss the general features of the MBR Database and the process for submitting information into this database. For reference, interested entities can access the relational database at https://mbrweb.ferc.gov/.

¹ Data Collection for Analytics and Surveillance and Market-Based Rate Purposes, Order No. 860, 168 FERC ¶ 61,039 (2019); Order No. 860-A, 170 FERC 61,129 (2020).

The technical workshop will be held on Thursday, March 25, 2021, from approximately 10:00 a.m. to 3:00 p.m. Eastern Time. The technical workshop will be held electronically. A supplemental notice will be issued prior to the technical workshop with further details regarding the agenda and if there are changes to the date or time of the technical workshop.

Individuals who are interested in registering for the conference can do so here: https://ferc.webex.com/ferc/j.php?MTID=e6dd18def200b281ff165e57325102ee0.

Commission conferences are accessible under section 508 of the Rehabilitation Act of 1973. For accessibility accommodations, please send an email to accessibility@ferc.gov or call toll free 1-866-208-3372 (voice) or 202-208-8659 (TTY), or send a fax to 202-208-2106 with the required accommodations.

For more information about this technical workshop, please contact Ryan Stertz, 202-502-6473, mbrdatabase@ferc.gov for technical questions, or Sarah McKinley, 202-502-8368, sarah.mckinley@ferc.gov for logistical issues.

Dated: February 25, 2021.
Nathaniel J. Davis, Sr.,
Deputy Secretary.

[FR Doc. 2021-04386 Filed 3-2-21; 8:45 am]

BILLING CODE 6717-01-P